DEPARTMENT OF ENERGY

Federal Energy Regulatory Commission

Supplemental Notice of Intent To Prepare an Environmental Impact Statement for the Proposed Transcameron Pipeline Project and Calcasieu Pass Terminal, and Request for Comments on Environmental Issues Related To New Route Amendments and Project Changes

TransCameron Pipeline, LLC | Docket Nos. CP15-551-001
Venture Global Calcasieu Pass, LLC | CP15-550-000

On September 4, 2015, TransCameron Pipeline, LLC (TransCameron Pipeline) filed an application in Docket No. CP15-551-000, pursuant to Section 7 of the Natural Gas Act, as amended, and Part 157 of the Commission's regulations for authorization to construct, install, own, operate and maintain two lateral pipelines (the East Lateral and the West Lateral pipeline) and appurtenant facilities located in Cameron Parish, Louisiana that comprise the TransCameron Pipeline Project (TransCameron Pipeline or Project). The Project application was filed jointly with an application by Venture Global Calcasieu Pass, LLC (Venture Global Calcasieu Pass) for authorization to construct and operate a liquefied natural gas (LNG) storage and marine export terminal, the Calcasieu Pass Terminal, and related facilities, in Cameron Parish (Docket No. CP15-550-000).

Venture Global Calcasieu Pass filed modifications to the Calcasieu Pass Terminal facilities on March 21, 2016. And, on June 28, 2016, TransCameron Pipeline filed an amendment to its application with additional project changes. The combined changes are detailed below, and an overview map of the Project is provided in appendix 1. This Supplemental Notice is being issued to seek comments on the amendment and other changes, and to open a new scoping period for interested parties to file comments on environmental issues.

Information about the facilities proposed by TransCameron Pipeline and Venture Global Calcasieu Pass can be found on the Commission's public Docket Nos. CP15-551-001, and CP15-550-000, respectively, and on the applicant's Web site at http://venturegloballng.com/calcasieu-pass. The FERC's environmental impact statement (EIS) will encompass all proposed facilities and be used by the Commission in its decision-making process to determine whether to approve the TransCameron Pipeline Project and Calcasieu Pass Terminal.

The FERC will be the lead federal agency for the preparation of the EIS. The U.S. Army Corps of Engineers, U.S. Department of Energy, U.S. Coast Guard, U.S. Department of Transportation, and U.S. Environmental Protection Agency are cooperating agencies in the preparation of the EIS.

We ¹ are seeking comments on the project modifications to help the Commission staff determine what issues need to be evaluated in the EIS. Your comments should focus on the potential environmental effects, reasonable alternatives, and measures to avoid or lessen environmental impacts from the proposed modifications. To ensure that your comments are timely and properly recorded, please send your comments so that the Commission receives them in Washington, DC on or before September 1, 2016. If you have previously provided comments on the TransCameron Pipeline Project or Calcasieu Pass Terminal, you do not need to resubmit them. State and local government representatives are asked to notify their constituents of this proposed Project amendment/modification and encourage them to comment on their areas of concern.

¹ “We,” “us,” and “our” refer to the environmental staff of the Commission's Office of Energy Projects.

This Supplemental Notice is being sent to the Commission's current environmental mailing list for this project, including those landowners that might be newly affected by the proposed pipeline modifications, and those no longer directly affected due to the reduction in proposed facilities. Landowners previously affected by the West Lateral should note that it is no longer being proposed. If you wish to be removed from the mailing list, please respond either electronically (information on filing electronically is provided below) or through the attached Information Request (appendix 2).

If you are a newly affected landowner receiving this notice, a pipeline company representative may contact you about the acquisition of an easement to construct, operate, and maintain the proposed facilities. The company would seek to negotiate a mutually acceptable agreement. However, if the Commission approves the project, that approval conveys with it the right of eminent domain. Therefore, if the easement negotiations fail to produce an agreement, the pipeline company could initiate condemnation proceedings where compensation would be determined in accordance with state law.

A fact sheet prepared by the FERC entitled “An Interstate Natural Gas Facility on My Land? What Do I Need To Know?” is available for viewing on the FERC Web site (www.ferc.gov). This fact sheet addresses a number of typically asked questions, including the use of eminent domain and how to participate in the Commission's proceedings.

Summary of Project Modifications

TransCameron Pipeline and Venture Global Calcasieu Pass have made the following Project modifications, filed in a March 21, 2016 supplement and June 28, 2016 amendment:

• Elimination of the West Lateral Pipeline and its associated facilities (meter station, mainline valves, access roads, and contractor yard) reducing the overall project workspace of TransCameron Pipeline's proposal from 637.6 acres to 372.2 acres;

• minor workspace and layout modifications, including additional access roads, and a contractor yard on the East Lateral Pipeline;

• reduction of the Terminal Site area from 393.7 acres to 268.4 acres through layout redesign;

• redesign and relocation of the two 200,000 cubic meters LNG aboveground storage tanks, including replacement of full containment with single containment design and addition of LNG retention basins;

• redesign of the piling system for LNG dock facilities;

• reduction of the number of integrated pre-cooled SMR liquefaction blocks located at the Terminal Site from ten to nine, while maintaining the same output capability;

• relocation of the administration/security building complex;

• removal of the construction utility dock from proposed Terminal design;

• addition of three off-site construction support facilities (Martin Support Facility, DeHyCo Support Facility, and Baker Hughes Support Facility) at existing marine industrial facilities on Calcasieu Pass;

• addition of two temporary access roads to provide access to the DeHyCo and Martin Support Facilities;

• increase in width of the Northeast Access Road from 50 to 125 feet from the intersection of the Martin Access Road to the Terminal's perimeter berm, and from 50 to 75 feet from the Liberty Support Facility to the intersection of the Martin Access Road;

• addition of one off-site facility (Mudd Support Facility) to provide parking space and a point of access to a private ferry that would carry construction personnel across the Calcasieu Ship Channel during construction;

• addition of a service road (Southwest Service Road) at the Terminal to provide restricted access to Cameron Parish's Jetty Pier Facility; and

• redesign of the Terminal's flood protection structure, replacing the earthen berm along the full perimeter of the plant site with an earthen berm on the west side and a steel pile floodwall on the east, north, and south sides. The berm will include the Northwest Access Road ramp. The floodwall would be +31.5 feet North American Vertical Datum of 1988 (NAVD 88); the berm would be +26 feet NAVD 88, with a sliding flood gate over the ramp to bring the height to +31.5 feet NAVD 88.

The EIS Process

NEPA requires the Commission to take into account the environmental impacts that could result from an action whenever it considers the issuance of an Authorization or Certificate of Public Convenience and Necessity. NEPA also requires us to discover and address concerns the public may have about proposals. This process is referred to as scoping. The main goal of the scoping process is to focus the analysis in the EIS on the important environmental issues. By this notice, the Commission requests public comments on the scope of the issues to address in the EIS. We will consider all filed comments during the preparation of the EIS.

In the EIS we will discuss impacts that could occur as a result of the construction and operation of the proposed projects under these general headings:

• Geology and soils;

• land use;

• socioeconomics;

• water resources, fisheries, and wetlands;

• cultural resources;

• vegetation and wildlife;

• air quality and noise;

• endangered and threatened species;

• reliability and safety; and

• cumulative impacts.

We will also evaluate reasonable alternatives to the proposed project or portions of the project, and make recommendations on how to lessen or avoid impacts on the various resource areas.

The EIS will present our independent analysis of the issues. We will publish and distribute the draft EIS for public comment. After the comment period, we will consider all timely comments and revise the document, as necessary, before issuing a final EIS. To ensure we have the opportunity to consider and address your comments, please carefully follow the instructions in the Public Participation section beginning on page 4.

The Cooperating Agencies also have responsibilities under NEPA and can adopt the EIS for their own agency's purposes.

Public Participation

You can make a difference by providing us with your specific comments or concerns about the proposed amendments to the TransCameron Pipeline Project or the modifications to the Calcasieu Pass Terminal facilities. Your comments should focus on the potential environmental effects, reasonable alternatives, and measures to avoid or lessen environmental impacts. The more specific your comments, the more useful they will be. To ensure that your comments are timely and properly recorded, please send your comments so that the Commission receives them in Washington DC on or before September 1, 2016. If you have previously provided comments on the TransCameron Pipeline Project or Calcasieu Pass Terminal, you do not need to resubmit them.

For your convenience, there are three methods you can use to submit your comments to the Commission. In all instances, please reference the appropriate project docket number (CP15-551-001 for the TransCameron Pipeline Project; CP15-550-000 for the Calcasieu Pass Terminal) with your submission. The Commission will provide equal consideration to all comments received. The Commission encourages electronic filing of comments and has expert staff available to assist you at (202) 502-8258 or efiling@ferc.gov. Please carefully follow these instructions so that your comments are properly recorded.

(1) You can file your comments electronically using the eComment feature located on the Commission's Web site (www.ferc.gov) under the link to Documents and Filings. This is an easy method for interested persons to submit brief, text-only comments on a project;

(2) You can file your comments electronically using the eFiling feature located on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing;” or

(3) You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, as well as anyone who submits comments on the projects. We will update the environmental mailing list as the analysis proceeds to ensure that we send the information related to this environmental review to all individuals, organizations, and government entities interested in and/or potentially affected by the planned projects.

Copies of the completed draft EIS will be sent to the environmental mailing list for public review and comment. If you would prefer to receive a paper copy of the document instead of the CD version or would like to remove your name from the mailing list, please return the attached Information Request (appendix 2).

Becoming an Intervenor

In addition to involvement in the EIS scoping process, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site.

Additional Information

Additional information about the TransCameron Pipeline Project and the Calcasieu Pass Terminal is available from the Commission's Office of External Affairs, at (866) 208-FERC or on the FERC Web site (www.ferc.gov) using the eLibrary link. Click on the eLibrary link, click on “General Search,” and enter the docket number, excluding the last three digits (i.e., CP15-551 or CP15-550). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/esubscribenow.htm.

Finally, public meetings or site visits will be posted on the Commission's calendar located at www.ferc.gov/EventCalendar/EventsList.aspx along with other related information.

Dated: August 2, 2016.
Nathaniel J. Davis, Sr.,
Deputy Secretary.

[FR Doc. 2016-19370 Filed 8-12-16; 8:45 am]

BILLING CODE 6717-01-P